NUCLEAR REGULATORY COMMISSION

Notice of Public Meeting to Solicit Stakeholder Input on the Use of Risk Information in the Nuclear Materials Regulatory Process: Case Studies on Gas Chromatographs, Static Eliminators and Fixed Gauges

AGENCY: Nuclear Regulatory Commission.

ACTION: Notice of meeting.

SUMMARY: The U.S. Nuclear Regulatory Commission (NRC) staff is developing an approach for using risk information in the nuclear materials and waste regulatory process. As part of this effort, the NRC staff is conducting case studies on a spectrum of activities in the nuclear materials and waste arenas, including the regulation of gas chromatographs, fixed gauges, and static eliminators. The purpose of the case studies is to illustrate what has been done and what could be done in the materials and waste arenas to alter the regulatory approach in a risk-informed manner, and to establish a framework for using a risk-informed approach in the materials and waste arenas by testing a set of draft screening criteria, and determining the feasibility of safety goals.

NRC staff is in the initial phase of the case studies on gas chromatographs, fixed gauges, and static eliminators. The purpose of this meeting is to: (1) Communicate to stakeholders the status of these case studies; (2) receive feedback and comments from stakeholders before continuing with the case studies; and (3) solicit from stakeholders comments or insights regarding the use of risk information in the NRC's regulation of gas chromatographs, fixed gauges, and static eliminators. The tentative agenda for the meeting is as follows:

1. Opening remarks.

2. Provide background information and general discussion on case studies.

3. Present status of case study on gas chromatographs and receive feedback and comments from meeting attendees.

4. Present status of case study on static eliminators and receive feedback and comments from meeting attendees.

5. Present status of case study on fixed gauges and receive feedback and comments from meeting attendees.

6. Receive general comments, feedback, and insights from meeting attendees with regard to the case studies and to using risk information in the NRC's regulation of gas chromatographs, fixed gauges, and static eliminators.

7. Closing remarks.

The meeting is open to the public; all interested parties may attend and provide comments. Persons who wish to attend the meeting should contact Marissa Bailey no later than January 29, 2001.

DATES: The meeting will be held on February 9, 2001, from 9 a.m. to 4 p.m., in the U.S. Nuclear Regulatory Commission Auditorium, 11545 Rockville Pike, Rockville, MD 20852.

FOR FURTHER INFORMATION CONTACT: Marissa Bailey, Mail Stop T-8-A-23, U.S. Nuclear Regulatory Commission, Washington, DC 20555-0001. Telephone: (301) 415-7648; Internet: MGB@NRC.GOV.

SUPPLEMENTARY INFORMATION: The NRC staff's case study approach, the draft screening criteria, and the case study areas under consideration are described in the “Plan for Using Risk Information in the Materials and Waste Arenas: Case Studies” which has been published in the Federal Register (65 FR 66782, November 7, 2000). Copies of this plan are also available on the Internet at http://www.nrc.gov/NMSS/IMNS/riskassessment.html. Written requests for single copies of this plan may also be submitted to the U.S. Nuclear Regulatory Commission, Office of Nuclear Materials Safety and Safeguards, Risk Task Group, Mail Stop T-8-A-23, Washington, DC 20555-0001.

Dated at Rockville, MD, this 4th day of January, 2001.
For the Nuclear Regulatory Commission.
Lawrence E. Kokajko,
Section Chief, Risk Task Group, Office of Nuclear Material Safety and Safeguards.

[FR Doc. 01-732 Filed 1-9-01; 8:45 am]

BILLING CODE 7590-01-P